DEPARTMENT OF HEALTH AND HUMAN SERVICES

Centers for Disease Control and Prevention

Notice of Award of a Single-Source Cooperative Agreement To Fund the Kinshasa School of Public Health, Democratic Republic of the Congo (KSPH, DRC)

AGENCY: Centers for Disease Control and Prevention (CDC), Department of Health and Human Services (HHS).

ACTION: Notice.

SUMMARY: The Centers for Disease Control and Prevention (CDC), located within the Department of Health and Human Services (HHS), announces the award of approximately $700,000, with an expected total funding of $3,500,000 over a five-year period, to the Kinshasa School of Public Health, Democratic Republic of the Congo (KSPH DRC). The award will support the investigation of the epidemiological, ecological, and anthropological aspects of monkeypox and assess clinical intervention strategies in the Democratic Republic of Congo (DRC). These activities align with CDC priorities to promote surveillance and global health to prevent the international spread of diseases and to control them at the source.

DATES: The period for this award will be September 30, 2022, through September 29, 2027.

FOR FURTHER INFORMATION CONTACT: Dr. Amy Yang, National Center for HIV, Viral Hepatitis, STD, and TB Prevention (NCHHSTP), Centers for Disease Control and Prevention, 1600 Clifton Road NE, MS US8-1, Atlanta, GA 30329-4027, Telephone: 404-718-8835, Email: corp_erpo_8835@cdc.gov.

SUPPLEMENTARY INFORMATION: This single-source award will support the investigation of the epidemiological, ecological, and anthropological aspects of monkeypox and assess clinical intervention strategies in the DRC. Research activities will focus on improvement and evaluation of lab-based surveillance systems, investigations of animal reservoirs and human behaviors at the human-animal interface, epidemiologic investigations, genome sequencing and phylogenetic analysis, risk mitigation, enhancing health communication strategies, and clinical evaluation of vaccines and therapeutic treatments. The research should provide the DRC Ministry of Health and other key stakeholders with evidence-based strategies to develop monkeypox and other zoonotic disease interventions.

The Kinshasa School of Public Health, Democratic Republic of the Congo (KSPH, DRC) is in a unique position to conduct this work, as it has a distinct role in the public health system of DRC by being both an institute of the University of Kinshasa and previously serving as the bone fide agent of the Ministry of Health; is the implementing partner for an open label trial of JYNNEOS smallpox vaccine in the healthcare workers of Tshuapa Province (2017-present), a study that will continue under the new cooperative agreement; along with their partners at the University of Kinshasa, has 10 years of experience in conducting rigorous investigations of potential monkeypox reservoir species; and has continually maintained a field office in Tshuapa Province devoted to monkeypox surveillance and research since 2011. This longstanding commitment to working in this area has yielded the most thorough longitudinal dataset on monkeypox incidence globally since smallpox eradication. No other indigenous or foreign institution has been able to sustain a continual field site for this length of time in a monkeypox-endemic area of DRC.

Summary of the Award

Recipient: The Kinshasa School of Public Health, Democratic Republic of the Congo (KSPH, DRC).

Purpose of the Award: The purpose of this award is to investigate the epidemiological, ecological, and anthropological aspects of monkeypox and assess clinical intervention strategies in the Democratic Republic of Congo (DRC). This research may extend to other zoonotic and vaccine-preventable diseases that are of importance in the DRC and elsewhere.

Amount of Award: $700,000 in Federal Fiscal Year (FYY) 2022 funds, and an estimated $700,000 for each subsequent 12-month budget period over five years, subject to availability of funds.

Authority: This program is authorized under Public Health Service Act, Sections 301(a) [42 U.S.C. 241(a)] and 307 [42 U.S.C. 242l].

Period of Performance: September 30, 2022, through September 29, 2027.

Dated: January 4, 2022.
Terrance Perry,
Chief Grants Management Officer, Centers for Disease Control and Prevention.

[FR Doc. 2022-00078 Filed 1-6-22; 8:45 am]

BILLING CODE 4163-18-P